DEPARTMENT OF VETERANS AFFAIRS

[OMB Control No. 2900-0118]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to the notice. This notice solicits comments on the information needed to determine whether an eligible person who is enrolled in a program at one school is entitled to receive education benefits for enrollment at a secondary school.

DATES: Written comments and recommendations on the proposed collection of information should be received on or before February 20, 2007.

ADDRESSES: Submit written comments on the collection of information through www.Regulations.gov; or to Nancy J. Kessinger, Veterans Benefits Administration (20M35), Department of Veterans Affairs, 810 Vermont Avenue, NW., Washington, DC 20420; or e-mail: nancy.kessinger@va.gov. Please refer to “OMB Control No. 2900-0118” in any correspondence. During the comment period, comments may be viewed online through the Federal Docket Management System (FDMS) at www.Regulations.gov.

FOR FURTHER INFORMATION CONTACT: Nancy J. Kessinger at (202) 273-7079 or FAX (202) 275-5947.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Transfer of Scholastic Credit (Schools), VA Form Letter 22-315.

OMB Control Number: 2900-0118.

Type of Review: Extension of a currently approved collection.

Abstract: Students receiving VA education benefits and are enrolled in two training institutions, must have the primary institution at which the student pursues his or her approved program of education verify that courses pursued at a secondary school will be accepted as full credit towards the student's course objective. VA sends VA Form Letter 22-315 to the student requesting that they have the certifying official of his or her primary institution to list the course or courses pursued at the secondary school for which the primary institution will give full credit. Educational payment for courses pursued at a secondary school is not payable until VA receives evidence from the primary institution verifying that the student is pursuing his or her approved program while enrolled in these courses. VA Form Letter 22-315 serves as this certification of acceptance.

Affected Public: Not-for-profit institutions, and State, local or tribal government.

Estimated Annual Burden: 1,050 hours.

Estimated Average Burden per Respondent: 10 minutes.

Frequency of Response: Occasion.

Estimated Number of Respondents: 6,329.

Dated: December 7, 2006.
By direction of the Secretary.
Cindy Stewart,
Program Analyst Initiative Coordination Service.

[FR Doc. E6-21775 Filed 12-20-06; 8:45 am]

BILLING CODE 8320-01-P